DEPARTMENT OF TRANSPORTATION

Surface Transportation Board

[Docket No. FD 35385]

Oregon International Port of Coos Bay—Acquisition Exemption—Rail Line of Union Pacific Railroad Company in Coos County, OR

The Oregon International Port of Coos Bay (Port), a Class III rail carrier, has filed a verified notice of exemption under 49 CFR 1150.41 to acquire approximately 22.37 miles of rail line, known as the Coquille Branch,¹ from Union Pacific Railroad Company in Coos County, Or. The line extends between milepost 763.13, in Cordes, where it connects to track currently owned by the Port, and milepost 785.5, in Coquille, the end of the line.

¹ The Port states that rail operations are currently suspended because the previous operator, Central Oregon & Pacific Railroad, Inc. (CORP), issued an embargo in 2007 and later obtained discontinuance authority over the line. See Central Oregon & Pacific Railroad, Inc.—Abandonment and Discontinuance of Service—in Coos, Douglas, and Lane Counties, Or., Docket No. AB 515 (Sub-No. 2) (served Oct. 31, 2008). The Port further states that the line is not currently in operable condition, and thus significant repairs are required. Once the line becomes operational, the Port plans to have a third-party operator in place to provide service.

The Port certifies that its projected annual revenues as a result of this transaction will not result in the creation of a Class II or Class I rail carrier and further certifies that its projected annual revenue will not exceed $5 million.

The earliest this transaction may be consummated is July 23, 2010, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than July 16, 2010 (at least 7 days before the exemption becomes effective).

An original and 10 copies of all pleadings, referring to Docket No. 35385, must be filed with the Surface Transportation Board, 395 E Street, SW., Washington, DC 20423-0001. In addition, one copy of each pleading must be served on Sandra L. Brown, 1920 N Street, NW., Suite 800, Washington, DC 20036.

Board decisions and notices are available on our Web site at http://www.stb.dot.gov.

Decided: July 2, 2010.
By the Board, Joseph H. Dettmar, Acting Director, Office of Proceedings.
Kulunie L. Cannon,
Clearance Clerk.

[FR Doc. 2010-16593 Filed 7-8-10; 8:45 am]

BILLING CODE 4915-01-P